DEPARTMENT OF ENERGY

Federal Energy Regulatory Commission

[Project No. 11651-001]

Calleguas Municipal Water District Notice of Surrender of Exemption (Conduit)

Pursuant to section 4.95(a) of the Commission's regulations,¹ Calleguas Municipal Water District filed with the Commission a petition to surrender its exemption from licensing for the unconstructed Las Posas Basin Aquifer Storage and Recovery Project No. 11651,² stating that the proposed project is no longer economically practicable.³ The project would have been located near the Town of Moorpark in Ventura County, California.

¹ 18 CFR 4.95(a) (2011).

² The Commission issued a conduit exemption for Project No. 11651 on June 7, 1999. Calleguas Municipal Water District, 87 FERC ¶ 62,256 (1999).

³ See filing of July 11, 2011 by Calleguas Municipal Water District.

Section 4.95(c) of the Commission's regulations states that if no construction has begun, an exemption will remain in effect through the thirtieth day after the Commission issues a public notice of receipt of the petition, unless the Commission issues an order to the contrary.⁴ Accordingly, Calleguas Municipal Water District's surrender of its exemption from licensing will be effective at the close of business on September 22, 2011. If the Commission is closed on that day, then the surrender is effective at the close of business on the next day in which the Commission is open.⁵ No applications for this site may be submitted until after the surrender is effective.

⁴ 18 CFR 4.95(c) (2011).

⁵ 18 CFR 385.2007(a)(2) (2011).

Dated: August 23, 2011.
Kimberly D. Bose,
Secretary.

[FR Doc. 2011-21983 Filed 8-26-11; 8:45 am]

BILLING CODE 6717-01-P